DEPARTMENT OF HEALTH AND HUMAN SERVICES

Centers for Disease Control and Prevention

[30DAY-73-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Youth Environmental Risk Perception Survey—New—Agency for Toxic Substances and Disease Registry (ATSDR). In 1996, the Agency for Toxic Substances and Disease Registry (ATSDR) launched a child health initiative to investigate knowledge and awareness of environmental hazards among children and youth. ATSDR is designing a new study, Risk Perceptions Among Youth of Environmental Hazards, to evaluate whether an educational intervention influences risk perceptions and knowledge of environmental toxins among middle school-aged students in a large metropolitan area. The results of this study will shed light on the ways young people learn about and use new information on environmental hazards. The results of this study will also be used to develop targeted environmental health education campaigns and improve communication strategies aimed at young people, and inform and guide ATSDR partners who may be planning similar educational interventions.

An educational intervention will be designed and implemented in a school-based setting to see if and how three communication variables influence young people's knowledge and behavior of environmental hazards. The key variables in this study are the source of the message, the contaminant, and the individual's perception of risk. A study population of 360 male and female students will be randomly selected from 7th and 8th grade science classes in a large metropolitan school district. Each study participant will complete two written surveys (e.g., a pre-test and post-test) administered prior to and immediately after listening to risk and hazard information. The results will be evaluated to determine the impact of different types and sources of information on the risk perceptions of participants. The estimated annualized burden is 90 hours.

Type of respondents | Number of respondents per year | Number of responses/ respondent | Avg. burden per response (in hrs.)
Middle school students | 360 | 1 | 15/60

Dated: October 16, 2000.
Nancy Cheal,
Acting Associate Director for Policy, Planning and Evaluation, Centers for Disease Control and Prevention (CDC).

[FR Doc. 00-27049 Filed 10-19-00; 8:45 am]

BILLING CODE 4163-18-P